ENVIRONMENTAL PROTECTION AGENCY

[OPP-2005-0079; FRL-7706-4]

Notice of Availability Regarding Activity-Based Reentry Restrictions

AGENCY: Environmental Protection Agency (EPA).

ACTION: Notice.

SUMMARY: To enhance transparency in the EPA's decision making, this notice announces the availability of its guidance, comments from interested parties, its response to stakeholder input, and several other documents related to the use of activity-based reentry restrictions. Based on consideration of the extensive stakeholder input, the EPA intends to continue with its case-by-case consideration in setting worker field reentry restrictions described in its 2001 guidance document.

FOR FURTHER INFORMATION CONTACT: Richard Dumas, Special Review and Reregistration Division (7508C), Office of Pesticide Programs, Environmental Protection Agency, 1200 Pennsylvania Ave., NW, Washington, DC 20460-0001; telephone number: (703) 308-8015; fax number: (703) 308-8005; e-mail address: dumas.richard@epa.gov.

SUPPLEMENTARY INFORMATION:

I. General Information

A. Does this Action Apply to Me?

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Get Copies of this Document and Other Related Information?

1. Docket. EPA has established an official public docket for this action under docket identification number OPP-2005-0079. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to view public comments, access the index listing of the contents of the official public docket, and to access those documents in the public docket that are available electronically. Although not all docket materials may be available electronically, you may still access any of the publicly available docket materials through the docket facility identified in Unit I.B.1. Once in the system, select “search,” then key in the appropriate docket ID number.

II. Background

A. What Action is the Agency Taking?

Under the Federal Insecticide, Fungicide, and Rodenticide Act (FIFRA), EPA (the Agency) is required to ensure that pesticides do not cause unreasonable adverse effects to the environment. Data are presented to the Agency regarding the safety of the pesticide and it is the Agency's responsibility to determine if a pesticide can be used consistent with the FIFRA standard. The Agency makes its safety determination based on the risks and benefits associated with the use of the pesticide. Using the best available data and information, the Agency conducts risk assessments for farmworkers exposed to pesticides from contact with treated surfaces while performing various tasks in the field. Risk assessments involved combining data on the hazard of the chemical, estimates of exposure for the tasks actually performed in the field for a particular crop and safety factors to account for extrapolating animal data to humans and differences among people. When a risk of concern is identified, the Agency considers ways to reduce exposure to pesticide residues by farmworkers. One of the measures used to mitigate the exposure of workers to pesticide residues is to restrict entry to areas recently treated with pesticides. These restricted entry intervals (REIs) take into account the types of activities conducted by farmworkers that cause them to come into contact with treated surfaces, high contact with treated plant surfaces vs. low contact with treated plant surfaces. The Agency determines when it is safe for workers to enter a treated area to conduct these activities.

In a few 1999 chemical decisions, the Agency set more than one REI for some crops. That is, it set one REI for higher contact activities and a shorter REI for all other activities for the same crop. Among other things, this approach created some confusion and concerns that allowing reentry during a REI erodes the effectiveness of over a decade of worker protection training. To address these concerns, a workgroup was formed to address implementation issues associated with REIs. This workgroup included risk-management, worker protection, and enforcement staff from EPA headquarters, EPA Regional offices and states. This effort contributed to a guidance document for Agency risk managers. The document dated September 6, 2001, provides guidance for Agency risk managers to consider in making activity-based reentry decisions, provides an alternative to setting more than one REI for a single crop by employing exceptions and prohibitions to REI on product labels, and encourages using the approach sparingly.

Several stakeholder groups have expressed concern and raised issues about the approach described in the guidance document. Over the past few years, the Office of Pesticide Programs (OPP) has actively sought input from interested parties to understand the range of perspectives on the approach and to get ideas for improving the overall approach. The Agency received input from state officials responsible for the implementation of pesticide labeling and the Worker Protection Standard (WPS), the pesticide industry who developed much of the activity-based worker exposure data in support of its registrations, advocacy groups who focus on worker protection issues, and grower groups who seek the maximum flexibility in the use of crop protection chemicals. Because of its broad stakeholder outreach, the Agency believes that at this time, it is unlikely that the public would provide significant new information if a formal public comment period were open on this matter.

Based on consideration of extensive stakeholder input, the Agency intends to continue its current practice of considering the use of activity-based reentry restrictions on a case-by-case basis. In reaching this conclusion, the Agency shares the concerns raised by some stakeholders regarding the enforceability and the potential reduction in the effectiveness of worker training programs that may result from the use of activity-based reentry labeling. However, the Agency believes there are circumstances when the use of such labeling is warranted because of a clear agronomic need and alternative approaches for balancing risks and benefits are less effective.

This notice announces the opening of a special docket describing the Agency's general approach for considering specific fieldworker activity information in setting restricted entry intervals. A docket has been established that includes the program's general approach and supporting documentation including written comments, the Agency response and other related documents. As mentioned above, based on its consideration of the extensive stakeholder input, the Agency intends to continue its case-by-case consideration in making reentry decisions, as described in its 2001 guidance document. The approach described in the guidance is non-binding and the Agency remains open to alternative approaches for addressing worker reentry risk concerns.

B. What is the Agency's Authority for Taking this Action?

The Federal Insecticide, Fungicide and Rodenticide Act, 7 U.S.C. 136, et seq.

List of Subjects

Environmental protection, pesticides and pests.

Dated: July 21, 2005.
James Jones,
Director, Office of Pesticides Programs.

[FR Doc. 05-14851 Filed 7-26-05; 8:45 am]

BILLING CODE 6560-50-S